DEPARTMENT OF ENERGY

Federal Energy Regulatory Commission

[Docket No. RP01-139-000]

Transwestern Pipeline Company; Notice of Proposed Changes in FERC Gas Tariff

December 5, 2000.

Take notice that on November 30, 2000 Transwestern Pipeline Company (Transwestern) tendered for filing to become part of Transwestern's FERC Gas Tariff Second Revised Volume No. 1, the following tariff sheets to be effective January 1, 2001:

124 Revised Sheet No. 5

29 Revised Sheet No. 5A

21 Revised Sheet No. 5A.02

20 Revised Sheet No. 5A.03

26 Revised Sheet No. 5B

Transwestern states that the purpose of this filing is to set forth the approved 2001 Gas Research Institute (GRI) surcharges for the 2001 calendar year to be effective January 1, 2001 in accordance with the Commission's Order approving The Gas Research Institute's Year 2001 Research, Development and Demonstration Program and 2001-2005 Five-Year Plan issued on September 29, 2000 in Docket No. RP00-313-000.

Transwestern states that copies of the filing were served upon Transwestern's customers and interested State Commissions.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-31417 Filed 12-8-00; 8:45 am]

BILLING CODE 6717-01-M